DEPARTMENT OF ENERGY

Federal Energy Regulatory Commission

[Docket No. EC04-130-000, et al.]

American Transmission Company LLC, et al.; Electric Rate and Corporate Filings

July 12, 2004.

The following filings have been made with the Commission. The filings are listed in ascending order within each docket classification.

1. American Transmission Company LLC

[Docket No. EC04-130-000]

Take notice that on July 8, 2004, American Transmission Company LLC (ATCLLC) tendered for filing an Application for Authority to Acquire Transmission Facilities Under section 203 of the Federal Power Act. ATCLLC requests that the Commission authorize ATCLLC to acquire ownership of certain transmission facilities from the Wisconsin Public Service Corporation. ATCLLC requests an effective date of August 15, 2004.

Comment Date: July 29, 2004.

2. CSW Ft. Lupton, Inc. Thermo Holdings LP

[Docket No. EC04-131-000]

Take notice that on July 9, 2004, CSW Ft. Lupton, Inc. (CSW) and Thermo Holdings LP (Thermo) (jointly, Applicants) filed with the Commission an application pursuant to section 203 of the Federal Power Act (FPA) for authorization for the sale and transfer of all except one tenth of one percent of CSW's partnership interests in Thermo Cogeneration Partnership, L.P. (Thermo Cogen) to Thermo (which will result in an indirect change of control over the FPA jurisdictional facilities owned by Thermo Cogen).

Comment Date: July 30, 2004.

3. New York Independent System Operator, Inc.

[Docket Nos. ER03-552-009 and ER03-984-007]

Take notice that on July 6, 2004, the New York Independent System Operator, Inc. (NYISO) tendered for filing a compliance filing pursuant to the Commission's order issued June 2, 2004, in Docket Nos. ER03-552-006 et al.

NYISO states that it has served a copy of this filing to all parties listed on the official service list maintained by the Secretary of the Commission in these proceedings. NYISO states that it has also served a copy of this filing to all parties that have executed Service Agreements under the NYISO's Open-Access Transmission Tariff or Services Tariff, the New York State Public Service Commission and to the electric utility regulatory agencies in New Jersey and Pennsylvania.

Comment Date: July 27, 2004.

4. Public Service Company of New Mexico

[Docket No. ER04-416-002]

Take notice that on July 6, 2004, Public Service Company of New Mexico (PNM) submitted a filing containing certain revisions to PNM's Open Access Transmission Tariff (OATT), in compliance with the Commission's Order issued June 4, 2004, 107 FERC ¶ 61,255.

PNM states that copies of the filing have been sent to all PNM large generation interconnection customers, to all entities that have pending large generation interconnection requests with PNM, to the New Mexico Public Regulation Commission, and to the New Mexico Attorney General.

Comment Date: July 27, 2004.

5. Nevada Power Company and Sierra Pacific Power Company

[Docket No. ER04-418-003]

Take notice that on July 6, 2004, Nevada Power Company and Sierra Pacific Power Company (collectively, the Nevada Companies) submitted a compliance filing pursuant to the Commission's order issued June 4, 2004, 107 FERC ¶ 61,255.

Comment Date: July 27, 2004.

6. Central Vermont Public Service Corporation

[Docket Nos. ER04-510-003 and EL04-88-002]

Take notice that on July 6, 2004, Central Vermont Public Service Corporation (Central Vermont) in response to a deficiency letter issued June 15, 2004, additional information relating to Substitute Original Service Agreement No. 46, a revised unexecuted interconnection Agreement with North Hartland, LLC filed on April 12, 2004, in Docket Nos. ER04-510-002 and EL04-88-001.

Central Vermont states that copies of the filing were served upon North Hartland, LLC, the Vermont Department of Public Service, and the Vermont Public Service Board.

Comment Date: July 27, 2004.

7. Southern California Edison Company

[Docket No. ER04-724-001]

Take notice that on July 6, 2004, Southern California Edison Company (SCE), tendered for filing supplemental information pursuant to the Commission's letter issued June 4, 2004, regarding its April 9, 2004, filing in Docket No. ER04724-000.

SCE states that copies of this filing were served upon the Public Utilities Commission of the State of California, FPL Energy Green Power Wind, LLC and Commission Staff.

Comment Date: July 27, 2004.

8. Midwest Independent Transmission System Operator, Inc.

[Docket No. ER04-754-001]

Take notice that on July 6, 2004, the Midwest Independent Transmission System Operator, Inc. (Midwest ISO), in compliance with the Commission's order issued June 4, 2004, in Docket No. ER04-754-000, submitted for filing on behalf of itself and American Transmission Company LLC (ATCLLC) and Wisconsin Public Service Corporation (WPSC) a proposed Amendment No. 1 to the Amended and Restated Generation-Interconnection Agreement between ATCLLC, WPSC, and the Midwest ISO.

Midwest ISO states that it has electronically served a copy of this filing, with attachments, upon all Midwest ISO Members, Member representatives of Transmission Owners and Non-Transmission Owners, the Midwest ISO Advisory Committee participants, as well as all state commissions within the region. Midwest ISO notes that the filing has been electronically posted on the Midwest ISO's Web site at http://www.midwestiso.org under the heading “Filings to FERC” for other interested parties in this matter. The Midwest ISO states that it will provide hard copies to any interested parties upon request.

Comment Date: July 27, 2004.

9. Renaissance Power, L.L.C.

[Docket No. ER04-992-000]

Take notice that on July 7, 2004, Renaissance Power, L.L.C. (Renaissance) pursuant to section 205 of the Federal Power Act (FPA), 16 U.S.C. 824d, and part 35 of the Commission's regulations, 18 CFR part 35, submitted for filing a rate schedule under which it specifies its revenue requirement for providing cost-based Reactive Support and Voltage Control from Generation Sources within the Michigan Electric Transmission Company, LLC (METC) control area. Renaissance requests an effective date of September 1, 2004.

Renaissance states that it has provided copies of the filing to METC, and the Midwest Independent System Operator, Inc., and the Michigan Public Service Commission.

Comment Date: July 28, 2004.

10. Duke Energy Corporation

[Docket No. ER04-993-000]

Take notice that on July 7, 2004, Duke Energy Corporation, on behalf of Duke Electric Transmission, (collectively, Duke) tendered for filing a revised Network Integration Transmission Service Agreement (NITSA) between Duke and North Carolina Municipal Power Authority No. 1. Duke seeks an effective date for the revised NITSA of July 1, 2004.

Comment Date: July 28, 2004.

11. Boston Generating, LLC

[Docket No. ER04-994-000]

Take notice that on July 7, 2004, Boston Generating, LLC (Boston Generating) submitted for filing, pursuant to section 205 of the Federal Power Act and part 35 of the Commission's regulations an application for market-based rate authorization to sell energy, capacity, and ancillary services, and reassign transmission capacity and resell firm transmission rights. Boston Generating requests the waivers and exemptions from regulation typically granted to the holders of market-based rate authorization. Boston Generating requests an effective date of August 1, 2004.

Comment Date: July 28, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1611 Filed 7-20-04; 8:45 am]

BILLING CODE 6717-01-P